DEPARTMENT OF COMMERCE

National Oceanic and Atmospheric Administration

RIN 0648-XA994

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a conference call of its Groundfish Essential Fish Habitat Review Committee (EFHRC).

DATES: The conference call will take place Tuesday, February 28, 2012. The meeting will begin at 2 p.m. and will conclude by 4 p.m. Pacific Time.

ADDRESSES: The meeting will be held via conference call, with a public listening station available at the Pacific Council offices.

Council address: Pacific Fishery Management Council, 7700 NE Ambassador Place, Suite 101, Portland, OR 97220-1384.

FOR FURTHER INFORMATION CONTACT: Mr. Kerry Griffin, Staff Officer, Pacific Council; telephone: (503) 820-2280.

SUPPLEMENTARY INFORMATION: The primary purposes of the conference call are to discuss a draft request for proposals, and to continue planning for a report to the Pacific Council at its April 2012 meeting in Seattle, WA. Other topics may be discussed as time allows, at the discretion of the Chair.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This public listening station is physically accessible to people with disabilities. Requests for sign language interpretation or other auxiliary aids should be directed to Mr. Kris Kleinschmidt at (503) 820-2280 at least 5 days prior to the meeting date.

Dated: February 7, 2012.
Tracey L. Thompson,
Acting Director, Office of Sustainable Fisheries, National Marine Fisheries Service.

[FR Doc. 2012-3136 Filed 2-9-12; 8:45 am]

BILLING CODE 3510-22-P